NUCLEAR REGULATORY COMMISSION

[Docket No. 50-390; NRC-2016-0075]

Completion Date of Cyber Security Plan Implementation Milestone 8; Tennessee Valley Authority; Watts Bar Nuclear Plant, Unit 1; Correction

AGENCY: Nuclear Regulatory Commission.

ACTION: License amendment application; opportunity to comment, request a hearing, and petition for leave to intervene; order; correction.

SUMMARY: The U.S. Nuclear Regulatory Commission (NRC) is correcting a notice that was published in the Federal Register (FR) on April 19, 2016, regarding issuance of an amendment to Facility Operating License No. NPF-90, issued to the Tennessee Valley Authority, for operation of the Watts Bar Nuclear Plant, Unit 1. This action is necessary to correct an NRC docket ID number that was listed incorrectly.

DATES: The correction is effective April 26, 2016.

ADDRESSES: Please refer to Docket ID NRC-2016-0075 when contacting the NRC about the availability of information regarding this document. You may obtain publicly-available information related to this document using any of the following methods:

• Federal Rulemaking Web site: Go to http://www.regulations.gov and search for Docket ID NRC-2016-0075. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov.

• NRC's PDR: You may examine and purchase copies of public documents at the NRC's PDR, Room O1-F21, One White Flint North, 11555 Rockville Pike, Rockville, Maryland 20852.

FOR FURTHER INFORMATION CONTACT: Robert Schaaf, Office of Nuclear Reactor Regulation, U.S. Nuclear Regulatory Commission, Washington DC 20555-0001; telephone: 301-415-6020, email: Robert.Schaaf@nrc.gov.

SUPPLEMENTARY INFORMATION:

In the FR on April 19, 2016, in FR Doc. 2016-09042, on page 23011, in the second column, the third line of the heading, correct “NRC-2016-0076” to read “NRC-2016-0075.” On the same page, in the third column, correct the following:

• The sixth line, correct “NRC-2016-0076” to read “NRC-2016-0075”;

• the fourth line after the SUPPLEMENTARY INFORMATION section heading, correct “NRC-2016-0076” to read “NRC-2016-0075”; and

• the twelfth line after the SUPPLEMENTARY INFORMATION section heading, correct “NRC-2016-0076” to read “NRC-2016-0075.”

On page 23012, in the first column, the fourth line, correct “NRC-2016-0076” to read “NRC-2016-0075.”

Dated at Rockville, Maryland, this 21st day of April 2016.
For the Nuclear Regulatory Commission.
Cindy Bladey,
Branch Chief, Rules, Announcements and Directives Branch, Division of Administrative Services, Office of Administration.

[FR Doc. 2016-09682 Filed 4-25-16; 8:45 am]

BILLING CODE 7590-01-P